SECURITIES AND EXCHANGE COMMISSION

[Release No. 34-82273; File No. SR-CBOE-2017-040]

Self-Regulatory Organizations; Cboe Exchange, Inc.; Notice of Filing of Amendment No. 2 to the Proposed Rule Change To Amend the Schedule of Fees and Assessments To Adopt a Fee Schedule To Establish Fees for Industry Members Related to the National Market System Plan Governing the Consolidated Audit Trail

December 11, 2017.

Correction

In notice document 2017-26995, appearing on pages 59683-59685, in the issue of Friday, December 15, 2017, please note the following correction:

On page 59685, in the second column, in the tenth line from the top, “January 5, 2017” should read “January 5, 2018”.

[FR Doc. C1-2017-26995 Filed 12-29-17; 8:45 am]

BILLING CODE 1301-00-D